FEDERAL EMERGENCY MANAGEMENT AGENCY

Agency Information Collection Activities: Submission for OMB review; comment request

ACTION: Notice and request for comments.

SUMMARY: The Federal Emergency Management Agency has submitted the following proposed information collection to the Office of Management and Budget for review and clearance in accordance with the requirements of the Paperwork Reduction Act of 1995 (44 U.S.C. 3507).

Title: Consultation with Local Officials to Assure Compliance with sections 110 and 206 of the Flood Disaster Protection Act.

Type of Information Collection: Revision of a currently approved collection.

OMB Number: 3067-0148.

Abstract: The certification forms are designed to assist requestors in gathering information that the Federal Emergency Management Agency (FEMA) needs to determine whether a certain property is likely to be flooded during a flood event that has a 1-percent chance of being equaled or exceeded in any given year (base flood).

Affected Public: Business or other for-profit, individuals or households, and State, Local or Tribal Government.

Number of Respondents: 1,400.

Estimated Time per Respondent:

FEMA forms | Number of respondents (A) | Frequency of response (B) | Hours per response (C) | Annual burden hours (A × B × C)
81-89 | 1,400 | Annual | 1.0 | 1,400
81-89A | 1,400 | Annual | 3.0 | 4,200
81-89B | 1,400 | Annual | 7.0 | 9,800
81-89C | 1,400 | Annual | 1.0 | 1,400
81-89D | 1,400 | Annual | 1.0 | 1,400
81-89E | 1,400 | Annual | 1.0 | 1,400
Total | 1,400 |  | 14.0 | 19,600

Estimated Total Annual Burden Hours: 19,600 hours.

Frequency of Response: On occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail muriel.anderson@fema.gov.

Dated: June 5, 2002.
Reginald Trujillo,
Branch Chief, Program Services and Systems Branch, Facilities Management and Services Division, Administration and Resource Planning Directorate.

[FR Doc. 02-16330 Filed 6-27-02; 8:45 am]

BILLING CODE 6718-01-P